DEPARTMENT OF ENERGY

Federal Energy Regulatory Commission

[Docket No. RP00-392-001 and RP00-576-001]

Nautilus Pipeline Company, L.L.C.; Notice of Compliance Filing

June 25, 2002.

Take notice that on June 20, 2002 Nautilus Pipeline Company, L.L.C. (Nautilus) tendered for filing as part of its FERC Gas Tariff, Original Volume No. 1, the tariff sheets listed in Attachment A to the filing.

Nautilus states that the purpose of this filing is to comply with the Commission's May 21, 2002 order on Nautilus' Order No. 637 pro forma compliance filing. Pursuant to Ordering Paragraph (B) of that order, Nautilus is not proposing an effective date for the revised tariff sheets at this time.

Nautilus states that a copy of this filing has been served upon its customers and interested state commissions.

Any person desiring to protest said filing should file a protest with the Federal Energy Regulatory Commission, 888 First Street, NE., Washington, DC 20426, in accordance with Section 385.211 of the Commission's Rules and Regulations. All such protests must be filed on or before July 2, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-16490 Filed 6-28-02; 8:45 am]

BILLING CODE 6717-01-P